DEPARTMENT OF AGRICULTURE

Forest Service

Region 5 and Region 6; California, Oregon, and Washington; Forest Plan Amendment for Planning and Management of Northwest Forests Within the Range of the Northern Spotted Owl

AGENCY: Forest Service, Agriculture (USDA).

ACTION: Notice of intent to prepare an environmental impact statement.

SUMMARY: The Pacific Northwest and Pacific Southwest Regions of the Forest Service, USDA, are proposing to amend the 1994 Northwest Forest Plan (NWFP). The amendment would apply to those Forest Service units, or parts thereof, with land management plans amended in 1994 by the NWFP or with land management plans developed later to include provisions of the NWFP. Units in the Pacific Northwest Region (Region 6) include: Deschutes National Forest, Fremont-Winema National Forest, Gifford Pinchot National Forest, Mt. Baker-Snoqualmie National Forest, Mt. Hood National Forest, Okanogan-Wenatchee National Forest, Olympic National Forest, Rogue River-Siskiyou National Forest, Siuslaw National Forest, Umpqua National Forest, and Willamette National Forest. Units in the Pacific Southwest Region (Region 5) include: Klamath National Forest and Butte Valley National Grassland, Lassen National Forest, Mendocino National Forest, Modoc National Forest, Six Rivers National Forest, and Shasta-Trinity National Forest. This notice initiates a scoping period on a preliminary proposed action and advises the public that the Forest Service is preparing an Environmental Impact Statement (EIS) to evaluate the effects of amending the Northwest Forest Plan.

DATES: Comments concerning the scope of the analysis are most valuable to the Forest Service if received by January 29, 2024. The draft EIS is expected in June 2024 and will be accompanied by a 90-day comment period. The final EIS is expected to be available for review in October 2024. These dates are subject to changes in the project schedule. The dates and times of webinars that will be scheduled to share more information on the Northwest Forest Plan and potential proposed actions can be found at https://www.fs.usda.gov/detail/r6/landmanagement/planning/?cid=fsbdev2_026990.

ADDRESSES: Individuals and entities are encouraged to submit comments via webform at https://cara.fs2c.usda.gov/Public//CommentInput?Project=64745. Hardcopy letters must be submitted to the following address: Regional Forester, U.S. Forest Service, 1220 SW 3rd Avenue, Portland, OR 97204. For those submitting hand-delivered comments, please call 971-260-7808 to make arrangements.

FOR FURTHER INFORMATION CONTACT: Dennis Dougherty, Planning Portfolio Supervisor, via email at sm.fs.nwfp_faca@usda.gov or at 541-519-0154. Individuals who use telecommunication devices for the deaf and hard of hearing (TDD) may call the Federal Relay Service at 800-877-8339, 24 hours a day, every day of the year, including holidays.

SUPPLEMENTARY INFORMATION:

Background: On April 3, 1994, the Secretaries of Agriculture and Interior approved what is commonly referred to as the NWFP, an amendment to land management plans for National Forests, and resource management plans for lands managed by the Bureau of Land Management (BLM) within the range of the northern spotted owl (Strix occidentalis caurina) (NSO) in Oregon, Washington, and Northern California (NWFP area). The NWFP provided management direction that was intended to conserve late successional and old growth forest ecosystems and associated species, including the NSO, marbled murrelet, and threatened and endangered at-risk anadromous fish, while providing a sustainable supply of timber and non-timber products to support and stabilize local and regional economies. The NWFP includes objectives to protect late successional and old growth forest habitats; an Aquatic Conservation Strategy to protect and restore aquatic habitat and watersheds; land allocations with associated management standards and guidelines; and “Survey and Manage” standards and guidelines intended to provide a reasonable assurance of the persistence of rare and little-known species thought to be associated with mature and old growth forests.

For nearly 30 years, Federal agencies have worked together and with partners to implement the NWFP to protect the long-term health of Federal forests in Oregon, Washington, and California in the range of the NSO. In many cases, the land management plans within the NWFP area are delivering effective, landscape-scale management, achieving positive community benefits and moving toward long-term desired ecological conditions by maintaining vegetation conditions that support NSO and marbled murrelets, protecting mature and old-growth forests, and retaining and improving habitat for aquatic and riparian-associated organisms.

While important progress has been made, changed ecological and social conditions are challenging the effectiveness of the NWFP. In recent years, large, uncharacteristic wildfires have resulted in losses of mature and old growth forests eliminating gains achieved in the first 25 years of implementation of the NWFP, and research indicates that large wildfires, with impacts to mature and old growth forests and associated NSO habitat, will increase in frequency and extent in both the wetter (e.g., western Cascades) and drier (e.g., eastern Cascades, Klamath province) portions of forests within the NWFP area. Further, there is broad recognition, documented in numerous monitoring and research reports (see Changed Conditions below), that tribal involvement in the development of the 1994 NWFP was overlooked and that engaging tribes in addressing the challenges faced in the NWFP area is critical to success.

There is also substantial new information relevant to the NWFP including the 2011 recovery plan for the NSO, the 2012 critical habitat designation for the NSO and the 2021 revision of that critical habitat designation, the 2021 Executive Order 14008, “Tackling the Climate Crisis at Home and Abroad,” and the 2022 Executive Order 14072 “Strengthening the Nation's Forests, Communities, and Local Economies.”

The NWFP affected Federal lands managed by the Forest Service and BLM. In 1995, the BLM updated resource management plans in western Oregon for the management of BLM-administered lands in the Coos Bay District, Eugene District, Salem District, and the Swiftwater Field Office of the Roseburg District, consistent with the NWFP, which guide management of approximately 2.5 million acres of BLM-administered lands. On August 5, 2016, the BLM revised these 1995 resource management plans to maintain strong protections for the NSO, listed fish species, and water resources while offering predictable and sustainable outcomes for local communities from tourism, recreation, and timber harvest.

The Forest Service is proposing to amend NWFP direction, addressing changed conditions and new information, to improve resistance and resilience to fire where needed across the NWFP landscape, support adaptation to and mitigation of climate change in the NWFP landscape, address management needs of mature and old growth forests with related ecosystem habitat improvement, and contribute predictable supplies of timber and non-timber products to support economic sustainability in communities affected by forest management in the NWFP landscape, including addressing environmental justice concerns and ensuring tribal inclusion in developing and implementing plan direction in the NWFP. By strengthening habitat supported by mature and old growth ecosystems, an amendment is likely to enhance habitat protections for listed and unlisted wildlife to the wildlife-focused framework of the NWFP. The Forest Service is coordinating with the U. S. Fish and Wildlife Service as well as NOAA Fisheries regarding consultation pursuant to Section 7 of the Endangered Species Act (ESA). An agreement will be developed to guide the consultation process.

Changed Conditions: The Forest Service and its partners have assessed and monitored the overall outcomes resulting from implementing the NWFP strategy. Decades of research findings and monitoring results—including monitoring reports prepared by the Northwest Forest Plan Interagency Monitoring Program—have advanced our understanding of NWFP ecosystems and highlighted changed conditions. Reports that summarize the best available science and contribute to both our current understanding of ecosystem dynamics and identifying the preliminary needs for change include:

• Synthesis of Science to Inform Land Management Within the Northwest Forest Plan Area (Spies et al. 2018.), and supplement, published by the Pacific Northwest Research Station.

• Bioregional Assessment of Northwest Forests (BioA) (2020).

• Supplemental Report to the Bioregional Assessment of Northwest Forests (2021).

New Information: Actions related to NSO conservation have generated additional information since establishment of the NWFP in 1994. In 2011, the U.S. Fish and Wildlife Service (USFWS) approved the “Revised Recovery Plan for the Northern Spotted Owl” (recovery plan), after the 1990 listing of the species as threatened under the Endangered Species Act (ESA). The ESA requires agencies to ensure that their actions are not likely to jeopardize the continued existence of listed species or result in the adverse modification or destruction of critical habitat. The NSO inhabits structurally complex forests from southwest British Columbia through the Cascade Mountains and coastal ranges in Washington, Oregon, and California, and as far south as Marin County, California. Managing sufficient habitat for the NSO now and into the future is important for its recovery, though this challenge is exacerbated by competition from the barred owl (Strix varia) which poses a significant and complex threat to the NSO. An important goal of the NWFP is to conserve mature and old growth forests which provide habitat for NSO.

After publication of the recovery plan, the USFWS designated critical habitat for the NSO in 2012 and revised that designation in 2021. The designated areas are all located within the geographical area occupied by the NSO and contain specific characteristics, resources, and conditions necessary to support one or more life processes of the species. The identified critical habitat contains features that are key to the conservation of the NSO and include lands within the NWFP reserves and matrix. Designation of critical habitat is a tool that supports the continued conservation of imperiled species by guiding cooperation within the Federal Government.

More recently, in November 2023, the USFWS published a draft “Barred Owl Management Strategy” and draft environmental impact statement that addresses the threat of the non-native and invasive barred owls to NSO and California spotted owls. Based on a recent analysis, NSO populations in study areas throughout their range declined by 35% to more than 80% over the past two decades. California spotted owls, which the USFWS proposed for ESA listing earlier this year, face a similar risk from barred owl competition as barred owl populations continue to expand southward.

New information has also been generated by the NWFP Interagency Regional Monitoring Program which evaluates the effectiveness of the NWFP in achieving its management objectives on Federal lands in the planning area. Monitoring efforts, conducted at 5-year intervals, emphasize important regional scale questions for multiple resource areas including populations and habitat of NSO. Based on the most recent monitoring findings, barred owls are a primary factor that negatively affects NSO demographic traits and population trends. Other factors such as habitat loss resulting from wildfire, logging, and insects and disease have also contributed. Concern about the impacts of climate change is also increasing. Ecologically appropriate timber management, such as thinning, can contribute to development of new habitat.

As part of the monitoring program, in 2021, the Forest Service published “Strengthening the Federal-Tribal Relationship: A Report on Monitoring Consultation Under the Northwest Forest Plan.” The report identifies opportunities to make Federal-Tribal relationships more effective and meaningful. It includes recommendations to improve consultation, protect Tribal rights and access, and to improve Federal-Tribal forest management compatibility.

Much more is known about the impact of climate change now than when the NWFP was approved in 1994, as described in the “Supplemental Report to the Bioregional Assessment of Northwest Forests” and in Executive Order 14008, “Tackling the Climate Crisis at Home and Abroad.” Further, in 2012, the Forest Service updated its land management planning regulation (36 CFR 219, “2012 Planning Rule,”) and included as a priority the need to plan for climate change and adaptation.

In 2022, Executive Order 14072, “Strengthening the Nation's Forests, Communities, and Local Economies” was published. This executive order set in motion a multi-agency analysis of threats to mature, or late successional, as defined in the NWFP Record of Decision, and old-growth forests on Federal lands, including from wildfire and climate change, along with efforts to identify conservation strategies that will help address these threats. These analyses, along with advancements in best available science, including Indigenous Knowledge, offer ideas and strategies for better meeting the objectives of the NWFP.

Purpose. The purpose of the proposed action is to amend the NWFP to establish new or modify existing plan components for 17 affected national forests to better enable the agency to meet the original intent of the NWFP to conserve mature and old-growth ecosystems and habitat for the NSO and other species, protect riparian areas and waters, and provide a sustainable supply of timber and non-timber forest products. Amending the NWFP will provide an opportunity for the Forest Service to incorporate findings from the Bioregional Assessment, the Science Synthesis and supplements, which identify changed conditions across the NWFP area since it was approved in 1994, and to incorporate new information relevant to the NWFP including monitoring reports.

Need to Change. In preparing an amendment to the NWFP, the responsible official shall base an amendment on a preliminary identification of the need to change the plan (36 CFR 219.13(a)(1)). The preliminary need to change documents the issues identified by the agency through public and Tribal engagement, the Science Synthesis, Bioregional Assessment and new information described above, as well as issues identified by its partners and consideration by the NWFP Federal Advisory Committee (NWFP FAC).

The preliminary need to change focuses on five interrelated topic areas, including:

• Improving fire resistance and resilience across the NWFP planning area,

• Strengthening the capacity of NWFP ecosystems to adapt to the ongoing effects of climate change,

• Improving conservation and recruitment of mature and old-growth forest conditions, ensuring adequate habitat for species dependent upon mature and old growth ecosystems and supporting regional biodiversity,

• Incorporating Indigenous Knowledge into planning, project design, and implementation to achieve forest management goals and meet the agency's general trust responsibilities, and

• Providing a predictable supply of timber and non-timber products, and other economic opportunities to support the long-term sustainability of communities located proximate to National Forest System lands and economically connected to forest resources.

Fire Resistance and Resilience: Recent wildfires, particularly in dry forests, have burned extremely large areas at high severities and at levels that differ from historic reference conditions in dry forests, where large patches of fire-killed trees were historically rare. Such fires have resulted in considerable harm to communities, including tribes, compounding existing social and economic sustainability challenges. The recent trend of increasing high-severity wildfire also threatens the ecological integrity of these forests, including mature and old growth forest conditions and the species, including the NSO, that depend on them—the precise resources that the NWFP was meant to maintain and restore. The Forest Service seeks additional plan direction that improves managers' ability to mitigate the risks of wildfire to communities, including tribes, and natural resources by supporting the functional role that fire plays in the ecological integrity of forests within the NWFP area, particularly in dry forests. In addition, while the NWFP recognizes the differences in management needs along the gradient of wet to dry forests, more clarity is needed to ensure that managers can implement the beneficial use of fire and other strategies appropriately across the varying ecosystems, including within riparian areas in the NWFP area.

In the drier portions of the NWFP area, more than a century of fire exclusion and other management practices have resulted in overly dense and homogenous forest conditions that heightens the risk of large, high-severity fires. Such management practices have resulted in forest composition and structure that is more vulnerable to fire, because forests often have higher densities of smaller trees and shrubs and a lower proportion of fire-resilient species than were historically present.

In moist forests, remaining mature and old growth ecosystems are being lost and further fragmented by wildfire. Plan direction is sought to prioritize mature and old growth forest conditions including habitat for the NSO and other ecosystem services during wildfire suppression activities. New post-wildfire silvicultural direction would guide reforestation and restoration of burned landscapes and for other post-disaster recovery efforts. New direction would also effectively steward existing plantations to contribute to a robust and resilient ecosystem that support the region's communities.

Indigenous fire stewardship and cultural burning regimes can contribute to the ecological health of NWFP forests. The NWFP did not adequately address the severe ecological impacts of a century of fire suppression and removal of Indigenous fire practices and cultural fire regimes on the landscape. Equitable and meaningful Tribal co-management and co-stewardship related to fire is needed, including recognition of the importance of Indigenous fire stewardship and cultural burning regimes to the ecological health of NWFP ecosystems. Developing and maintaining mature and old growth forest conditions, heterogeneous and complex forest structures, biodiversity, habitat, and cultural ecosystem services is strengthened through inclusion of Indigenous fire practitioners and practice.

Climate Change: Hot and dry conditions are projected to become increasingly frequent, intense, and prolonged in the NWFP area as temperatures warm and summer rains become less frequent. The Pacific Northwest is rapidly warming, and while changes in total annual precipitation are not projected to be substantial, changes in snowpack and streamflow are anticipated, contributing to the potential for uncharacteristic fire. As a result, climate change is significantly altering the ecological processes and disturbance regimes which shape NWFP area forests. Acute disturbance events in turn leave forests more susceptible to long-term shifts in tree species composition that is less fire resilient. There is also a recognition of the critical role forests within the NWFP area can play in carbon sequestration and storage as a mitigation to climate change.

Climate change is also affecting other ecological and hydrologic processes, increasing the vulnerability of NWFP forests and overall ecological integrity. With climate change, the timing and significance of rain events is increasingly atypical with respect to impacts on plants, people, and infrastructure. In the wet systems, atmospheric rivers cause floods, affecting road systems and culverts with impacts to fish, aquatic biodiversity, and access for recreation. Within dry forest systems, climate change is increasing the likelihood of drought and is contributing to wildland fires occurring at uncharacteristic scales and severities. Furthermore, climate change is shifting the distribution of forest types, plant and animal communities and fire regimes (e.g., wet versus dry forests) throughout the NWFP area.

Climate-related vulnerabilities include increased drought-related stress, increasing insect, exotic species and pathogen damage, and loss of appropriate historical forest type cover in some areas. Drought conditions and longer fire seasons are climate impacts with wide-ranging effects, and improved fire resilience is an important adaptation strategy.

Since 1994, Tribes and State and Federal agencies have produced a range of climate vulnerability assessments and adaptation plans applicable to the NWFP area. Amendment of the NWFP should reflect consideration of pre-existing and ongoing forest-level, Tribal and State climate vulnerability assessments, adaptation plans and resilience-building initiatives. Tribal communities are on the front lines of climate change, both in experiencing significant impacts of climate stressors and as leaders in climate change monitoring, planning, mitigation, and adaptation. The NWFP should reflect Tribal knowledge and a significant role for Tribes in monitoring the effects of climate change, conducting research on these effects and developing strategies to address climate change adaptations and responses across the NWFP area.

Mature and Old Growth Ecosystems: Protecting and enhancing biodiversity of mature and old growth ecosystems is a central tenet of the NWFP, and the 2012 Planning Rule's focus on ecosystem integrity emphasizes this priority. Mature and old growth ecosystems are critical components of biodiversity and provide carbon storage. The NWFP protects mature and old growth ecosystems primarily through a system of reserves and leave tree requirements, though mature and old growth stands outside of reserves do not have the same level of protection.

As noted, the NWFP did not adequately address important differences in successional and disturbance dynamics in different types of forests, and so did not adequately account for threats from uncharacteristic disturbance and climate change. New plan direction would improve conservation and recruitment of mature and old growth forest conditions and associated habitat for NSO and other vulnerable species in moist forest settings. At the same time, active management is necessary to restore and conserve mature and old growth forest conditions and associated biodiversity in seasonally dry, fire prone forests. More nuanced direction would support mature and old growth ecosystems with management strategies that recognize biophysical and cultural variability in forests and the importance of future forest adaptation and resiliency.

Tribal Inclusion: The NWFP area encompasses tribal lands or ancestral territories associated with over 80 federally recognized American Indian Tribes, and additional tribes that are not currently recognized. The development and implementation of the NWFP in 1994 could have involved more consultation, engagement, and partnership with tribes and the inclusion of ecological and traditional ecological knowledge. It is imperative that Tribal governments, representatives, and communities across the NWFP area have the opportunity to engage in amendment of the NWFP to ensure that Tribal sovereignty and treaty rights are accurately addressed and to integrate co-stewardship and co-management frameworks for accomplishing plan objectives. In some cases, cultural resources and other forest products that are important to tribes, or are recognized as treaty rights, should be prioritized over non-native or commercial uses. For example, there may be First Food locations or resources, such as huckleberries, where Indigenous Knowledge and practices are primary/dominant and should be considered for prioritization of management separately from other public interests.

An amendment to the NWFP would incorporate best available scientific evidence from both western and Indigenous science perspectives to meet the threats to, and drivers of fire resilience in forests and communities. Where Tribal, forest-level, or regional plans have not been developed, the Forest Service should collaborate with Tribal Natural Resources and Wildlife departments, Forests and communities to support efforts to design strategies for climate refugia and habitat connectivity for threatened and endangered and culturally relevant species, vulnerability assessments, and adaptation plans, and to build social and ecological resilience to climate change related stressors.

Communities: The development and implementation of the NWFP has had significant socio-economic, cultural, workforce, and financial impacts on communities and publics. The NWFP has largely not achieved its timber production goals, which were the NWFP's primary criteria for supporting economies and community wellbeing (e.g. livelihoods and subsistence practices). Impacts include not only timber-related employment, but also community and industry infrastructure, and community connection to management and conservation practices and activities. In addition, some social, economic, and ecological challenges currently facing communities were not anticipated by the NWFP. For example, communities are facing increasing risks from natural hazards (e.g., wildfire, flooding, debris flows) related to conditions on National Forest System lands. The intent of the NWFP amendment is to be forward-looking and promote adaptability of communities, the forest workforce, and the Forest Service to future changes with a focus on timber and non-timber products and other economic opportunities.

Proposed Action. The following is a preliminary description of the agency's proposed amendment to address the interrelated concerns identified in the preliminary need to change. The agency will refine the proposed action considering comments received from the public and recommendations from the Northwest Forest Plan Area Federal Advisory Committee. To strengthen the NWFP to meet its objectives, the Forest Service seeks to amend the 1994 action to:

• Improve fire resistance and resilience by clarifying direction for employing prescribed fire, managed fire use associated with natural ignitions, cultural burning, and active management. Direction should reflect differences in dry and moist forested ecosystems, non-forested ecosystems, and in riparian areas. Direction would ensure that forests are managed to adapt to changing fire regimes, restore fire in a functional role in the health and integrity of forest ecosystems, and contribute to traditional cultural resources. Improved fire resilience will meet the needs of the Endangered Species Act, support the Forest Service's Wildfire Crisis Strategy, and strengthen relationships between the agency and Tribal Nations and Indigenous peoples.

• Strengthen the capacity of NWFP ecosystems to adapt to the ongoing effects of climate change and to mitigate impacts of climate change. Deliberate focus on climate impacts is needed to help managers address key vulnerabilities of drought-related stress, increasing impacts of disease, insects and exotic species, negative impacts to forest cover, and watershed management strategies that improve conservation of fish habitat and stream flows.

• Improve sustainability of mature and old growth ecosystems by providing plan direction to maintain and expand mature and old growth forest conditions and reduce loss risk across all land use allocations. Amended plan content would differentiate and clarify varying conservation goals for moist and dry forest ecosystems. In addition, it would clarify management intent within land use allocations, including matrix and adaptive management areas.

• Add plan direction incorporating Indigenous Knowledge into planning and plan implementation, including future project design, to identify and support tribal goals, achieve forest management goals and meet the agency's trust responsibilities.

• Support the long-term sustainability of communities located near National Forest System lands and those that are culturally and economically connected to forest resources. Clarity is needed regarding opportunities for timber and non-timber products, including from restoration activities. The NWFP should sustain the values, benefits, and other ecosystem services that national forests provide to communities, including tribes, that directly depend on them. Above all, changes in plan direction would ensure effective wildfire risk reduction to reduce risks to communities, life, and property.

Expected impacts are strong tribal inclusion, improved fire resilience, especially in mature and old growth forests, with associated improvements to habitat and biodiversity and supply of timber and non-timber products and economic opportunity from National Forest System Lands.

Preliminary Alternatives. This notice of intent initiates the official scoping process, which guides the development of the environmental impact statement. Written comments received in response to this notice will be analyzed to further develop the proposed action and to identify potential significant issues for developing alternatives to the proposed action. A no-action alternative, which represents no change to existing management direction, will be analyzed in addition to the proposed action and will serve as the baseline for the comparison among action alternatives. Comments we receive in response to this notice of intent may identify additional alternatives.

Lead and Cooperating Agencies. Public agencies and Tribes are invited to indicate interest in participating as a cooperating agency.

Responsible Official. The Responsible Officials for this amendment are the Regional Foresters of the Pacific Northwest Region and the Pacific Southwest Region.

Nature of the Decision to Be Made. The Responsible Officials will decide whether to approve one or more proposals to amend the NWFP to establish new or to modify existing plan components. Given the purpose and need of the amendment, the Responsible Officials will review alternatives and public comments, consider the environmental consequences, and document the finding in an environmental impact statement. The Responsible Officials will decide whether to select the proposed action, another alternative, or a combination of alternatives and base their decision on the preliminary need to change the plan.

Substantive Provisions. When proposing a Forest Plan amendment, the 2012 Planning Rule at 36 CFR 219.13(b)(2) requires the responsible official to provide notice of which substantive requirements of 36 CFR 219.8-219.11 are likely to be directly related to the amendment. Whether a Planning Rule provision is directly related to an amendment is determined by any one of the following: The purpose for the amendment, a beneficial effect of the amendment, a substantive adverse effect of the amendment, or a lessening of plan protections by the amendment (36 CFR 219.13(b)(5). Based on those criteria, the substantive provisions that are likely to be directly related to the proposed amendments are: (1) 36 CFR 219.8(a)(1), ecosystem integrity; (2) 36 CFR 219.8(b), Social and economic sustainability; (3) 36 CFR 219.9(a), ecosystem plan components; (4) 36 CRF 219.10 (a)(5), Habitat conditions, subject to the requirements of § 219.9, for wildlife, fish, and plants commonly enjoyed and used by the public; for hunting, fishing, trapping, gathering, observing, subsistence, and other activities (in collaboration with federally recognized Tribes, Alaska Native Corporations, other Federal agencies, and State and local governments); (5) 36 CFR 219.10 (a)(8), System drivers, including dominant ecological processes, disturbance regimes, and stressors, such as natural succession, wildland fire, invasive species, and climate change; and the ability of the terrestrial and aquatic ecosystems on the plan area to adapt to change (§ 219.8); (6) 36 CFR 219.10 (b)(1)(iii), Management of areas of tribal importance; and (7) 36 CFR 219.11(c), Timber harvest for purposes other than timber production.

Scoping Comments and the Objection Process. This notice of intent initiates the scoping process. Comments submitted in response to this notice will be considered and will guide the development of the proposed amendment and draft environmental impact statement which will be accompanied by a 90-day comment period. In this scoping period, the Agency is requesting comments on potential alternatives and impacts, and identification of any relevant information, studies, or analyses concerning impacts that may affect the quality of the environment. It is important that reviewers provide their comments at such times and in such manner that they are useful to the agency's preparation of the environmental impact statement. Therefore, comments should be provided prior to the close of the comment period and should clearly articulate the reviewer's concerns and contentions. The agency is planning several webinars to share information about the Northwest Forest Plan and potential proposed actions. See DATES section above for a link to dates, times and links will be https://www.fs.usda.gov/detail/r6/landmanagement/planning/?cid=fsbdev2_026990.

The proposed action is subject to the objection process identified in 36 CFR 219, subpart B (219.50-219.62). Commenting during the opportunity to comment provided by the Responsible Official as prescribed by the applicable regulations will establish eligibility to object once the final environmental impact statement and draft record of decision have been published. Only individuals or entities who submit substantive written comments during the designated comment periods will be eligible to participate in the objection process (36 CFR 219.53(a)). Substantive written comments should be within the scope of the proposed action, have a direct relationship to the proposed action, and include supporting reasons for the Responsible Official to consider. Comments submitted anonymously will be accepted and considered; however, they cannot be used to establish eligibility for the objection process. Comments received in response to this solicitation, including names (and addresses, if included) of those who comment, will be part of the public record for this proposed action.

This preliminary proposed action and other related documents are available for comment on the project website listed in the ADDRESSES section above, and additional information regarding this proposal can be found at https://www.fs.usda.gov/detail/r6/landmanagement/planning/?cid=fsbdev2_026990.

Dated: December 13, 2023.
Troy Heithecker,
Associate Deputy Chief, National Forest System.

[FR Doc. 2023-27742 Filed 12-15-23; 8:45 am]

BILLING CODE 3411-15-P